DEPARTMENT OF TRANSPORTATION

Federal Aviation Administration

14 CFR Part 39

[Docket No. FAA-2018-0735; Product Identifier 2018-NE-26-AD; Amendment 39-19599; AD 2019-06-01]

RIN 2120-AA64

Airworthiness Directives; International Aero Engines Turbofan Engines

AGENCY: Federal Aviation Administration (FAA), DOT.

ACTION: Final rule; request for comments.

SUMMARY: We are superseding Airworthiness Directive (AD) 2018-24-01 for certain International Aero Engines (IAE) PW1133G-JM, PW1133GA-JM, PW1130G-JM, PW1127G-JM, PW1127GA-JM, PW1127G1-JM, PW1124G-JM, PW1124G1-JM, and PW1122G-JM turbofan engines. AD 2018-24-01 required removing certain low-pressure turbine (LPT) 1st- and 3rd-stage disks from service and replacing with a part eligible for installation. This AD retains the same requirements as AD 2018-24-01. This AD was prompted by the discovery of incorrect serial numbers in the identification of LPT disks in AD 2018-24-01. We are issuing this AD to address the unsafe condition on these products.

DATES: This AD is effective April 10, 2019.

We must receive any comments on this AD by May 10, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket on the internet at http://www.regulations.gov by searching for and locating Docket No. FAA-2018-0735; or in person at Docket Operations between 9 a.m. and 5 p.m., Monday through Friday, except Federal holidays. The AD docket contains this final rule, the regulatory evaluation, any comments received, and other information. The street address for Docket Operations (phone: 800-647-5527) is listed above. Comments will be available in the AD docket shortly after receipt.

FOR FURTHER INFORMATION CONTACT: Kevin M. Clark, Aerospace Engineer, ECO Branch, FAA, 1200 District Avenue, Burlington, MA 01803; phone: 781-238-7088; fax: 781-238-7199; email: kevin.m.clark@faa.gov.

SUPPLEMENTARY INFORMATION:

Discussion

We issued AD 2018-24-01, Amendment 39-19505 (84 FR 2715, February 8, 2019), (“AD 2018-24-01”), for all IAE PW1133G-JM, PW1133GA-JM, PW1130G-JM, PW1127G-JM, PW1127GA-JM, PW1127G1-JM, PW1124G-JM, PW1124G1-JM, and PW1122G-JM turbofan engines with certain LPT 1st- and 3rd-stage disks installed. AD 2018-24-01 required removing certain LPT 1st- and 3rd-stage disks from service and replacing with a part eligible for installation. AD 2018-24-01 resulted from by a report of manufacturing defects found on delivered LPT 1st- and 3rd-stage disks. We issued AD 2018-24-01 to prevent failure of the LPT 1st- or 3rd-stage disk.

Actions Since AD 2018-24-01 Was Issued

Since we issued AD 2018-24-01, we learned of incorrect and omitted serial numbers for LPT 1st-stage and 3rd-stage disks in AD 2018-24-01. Two serial numbers, LLDLAJ4594 and LLDLAJ4595, were identified incorrectly, respectively, as LLDLAJ4494 and LLDLAJ4495 in Figure 1 to Paragraph (g) of AD 2018-24-01. In addition, one serial number, LLDLAJ6115, was included in the NPRM but inadvertently omitted from Figure 2 to Paragraph (g) of AD 2018-24-01. We are issuing this AD to address the unsafe condition on these products.

FAA's Determination

We are issuing this AD because we evaluated all the relevant information and determined the unsafe condition described previously is likely to exist or develop in other products of the same type design.

AD Requirements

This AD requires removing certain LPT 1st- and 3rd-stage disks from service and replacing with a part eligible for installation.

FAA's Justification and Determination of the Effective Date

No domestic operators use this product. Therefore, we find good cause that notice and opportunity for prior public comment are impracticable. In addition, for the reason stated above, we find that good cause exists for making this amendment effective in less than 30 days.

Comments Invited

This AD is a final rule that involves requirements affecting flight safety, and we did not provide you with notice and an opportunity to provide your comments before it becomes effective. However, we invite you to send any written data, views, or arguments about this final rule. Send your comments to an address listed under the ADDRESSES section. Include the docket number FAA-2018-0735 and product identifier 2018-NE-26-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 0 engines installed on airplanes of U.S. registry.

We estimate the following costs to comply with this AD:

Estimated Costs
Action | Labor cost | Parts cost | Cost per product | Cost on U.S. operators
Remove and replace LPT 1st- or 3rd-stage disk | 0 work-hours × $85 per hour = $0 | $210,000 | $210,000 | $0

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) Amendment 39-19505 (84 FR 2715, February 8, 2019) and adding the following new AD:

2019-060-01 International Aero Engines: Amendment 39-19599; Docket No. FAA-2018-0735; Product Identifier 2018-NE-26-AD.

(a) Effective Date

This AD is effective April 10, 2019.

(b) Affected ADs

This AD replaces AD 2018-24-01, Amendment 39-19505 (84 FR 2715, February 8, 2019).

(c) Applicability

This AD applies to International Aero Engines (IAE) PW1133G-JM, PW1133GA-JM, PW1130G-JM, PW1127G-JM, PW1127GA-JM, PW1127G1-JM, PW1124G-JM, PW1124G1-JM, and PW1122G-JM turbofan engines with a low-pressure turbine (LPT) 3rd-stage disk with a serial number (S/N) listed in Figure 1 to paragraph (g) of this AD or an LPT 1st-stage disk with an S/N listed in Figure 2 to paragraph (g) of this AD, installed.

(d) Subject

Joint Aircraft System Component (JASC) Code 7250, Turbine Section.

(e) Unsafe Condition

This AD was prompted by a report of manufacturing defects found on delivered LPT 1st- and 3rd-stage disks. We are issuing this AD to prevent failure of the LPT 1st- or 3rd-stage disk. The unsafe condition, if not addressed, could result in uncontained LPT 1st- or 3rd-stage disk release, damage to the engine, and damage to the airplane.

(f) Compliance

Comply with this AD within the compliance times specified, unless already done.

(g) Required Actions

Remove from service the LPT 1st- and 3rd-stage disk within 30 days after the effective date of this AD, or as identified in paragraphs (g)(1) or (2) of this AD, whichever occurs later, and replace with a part eligible for installation.

(1) Remove the LPT 3rd-stage disk with an S/N listed in Figure 1 to paragraph (g) of this AD at the next piece-part exposure, not to exceed 4,800 cycles since new (CSN).

BILLING CODE 4910-13-P

(2) Remove the LPT 1st-stage disk with an S/N listed in Figure 2 to paragraph (g) of this AD at the next piece-part exposure, not to exceed 2,240 CSN.

(h) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD. You may email your request to: ANE-AD-AMOC@faa.gov.

(2) Before using any approved AMOC, notify your appropriate principal inspector, or lacking a principal inspector, the manager of the local flight standards district office/certificate holding district office.

(i) Related Information

For more information about this AD, contact Kevin M. Clark, Aerospace Engineer, ECO Branch, FAA, 1200 District Avenue, Burlington, MA, 01803; phone: 781-238-7088; fax: 781-238-7199; email: kevin.m.clark@faa.gov.

(j) Material Incorporated by Reference

None.

Issued in Burlington, Massachusetts, on March 19, 2019.
Karen M. Grant,
Acting Manager, Engine and Propeller Standards Branch, Aircraft Certification Service.

[FR Doc. 2019-05582 Filed 3-25-19; 8:45 am]

BILLING CODE 4910-13-C